INTERNATIONAL TRADE COMMISSION

[Investigation Nos. 731-TA-1455 and 731-TA-1457 (Final)]

Polyethylene Terephthalate (PET) Sheet From Korea and Oman

Determinations

On the basis of the record ¹ developed in the subject investigations, the United States International Trade Commission (“Commission”) determines, pursuant to the Tariff Act of 1930 (“the Act”), that an industry in the United States is materially injured by reason of imports of polyethylene terephthalate (PET) sheet from Korea and Oman, provided for in subheading 3920.62.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 85 FR 44276 and 85 FR 44278 (July 22, 2020).

Background

The Commission instituted these investigations effective July 9, 2019, following receipt of petitions filed with the Commission and Commerce by Advanced Extrusion, Inc., Rogers, Minnesota; Ex‐Tech Plastics, Inc., Richmond, Illinois; and Multi‐Plastics Extrusions, Inc., Hazleton, Pennsylvania. The Commission scheduled the final phase of the investigations following notification of preliminary determinations by Commerce that imports of PET sheet from Korea and Oman were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of March 19, 2020 (85 FR 15796). In light of the restrictions on access to the Commission building due to the COVID-19 pandemic, and in accordance with 19 U.S.C. 1677c(a)(1), the Commission conducted its hearing on July 14, 2020, by video conference as set forth in procedures provided to the parties. All persons who requested the opportunity were permitted to participate.

The Commission made these determinations pursuant to § 735(b) of the Act (19 U.S.C. 1673d(b)). It completed and filed its determinations in these investigations on September 3, 2020. The views of the Commission are contained in USITC Publication 5111 (September 2020), entitled Polyethylene Terephthalate (PET) Sheet from Korea and Oman: Investigation Nos. 731-TA-1455 and 731-TA-1457 (Final).

By order of the Commission.
Issued: September 3, 2020.
Lisa Barton,
Secretary to the Commission.

[FR Doc. 2020-19960 Filed 9-9-20; 8:45 am]

BILLING CODE 7020-02-P